DEPARTMENT OF THE INTERIOR

Bureau of Land Management

[CA-660-1430-ER-CACA-17905]

Notice of Intent To Prepare an Environmental Impact Statement (EIS)/Environmental Impact Report (EIR) for the Proposed Devers-Palo Verde No. 2 Transmission Line Project

AGENCY: Bureau of Land Management, Interior.

ACTION: Notice of intent.

SUMMARY: In accordance with the National Environmental Policy Act of 1969, as amended, (Pub. L. 91-190, 42 U.S.C. 432l et seq.), notice is hereby given that the Bureau of Land Management (BLM), together with the California Public Utilities Commission (CPUC), intend to prepare a joint Environmental Impact Statement/Environmental Impact Report (EIS/EIR) for the Devers-Palo Verde 500 kV No. 2 Transmission Line Project (DPV2), proposed by the Southern California Edison Company (SCE). The BLM is the lead Federal agency for the preparation of this EIS in compliance with the requirements of the National Environmental Policy Act (NEPA). The CPUC is the lead State of California agency for the preparation of this EIR in compliance with the requirements of the California Environmental Quality Act (CEQA).

This notice initiates the public participation and scoping processes for the EIS/EIR and also serves as an invitation for other cooperating agencies to provide comments on the scope and content of the EIS/EIR. Potential cooperating agencies include the U.S. Fish and Wildlife Service, the Department of Defense, the State Historic Preservation Office, and the California Department of Fish and Game.

DATES: Scoping meetings will be held during fall 2005. Comments on issues and planning criteria may be submitted in writing to the address listed below. All public meetings will be announced at least 15 days prior to the event through the local news media, newspapers, and these two agency Web sites: http://www.ca.blm.gov/palmsprings and http://www.cpuc.ca.gov/environment/info/aspen/dpv2/ dpv2.htm. In addition to the ongoing public participation process, formal opportunities for public participation will be provided upon publication of the Draft EIS/EIR. Written comments must be postmarked no later than 30 days from the date of this notice in order to be included in the Draft EIS/EIR. When available, the public will be provided a 60-day public review period on the Draft EIS/EIR. These documents will be made available at document repository sites listed on the previously identified agency Web sites. Contact the BLM if you would like to be included in the mailing list to receive copies of all public notices relevant to this project.

ADDRESSES: Comments and other correspondence should be sent to Field Manager, Bureau of Land Management, 690 West Garnet Ave., P.O. Box 581260, North Palm Springs, CA 92258-1260 or by fax at (760) 251-4899. Documents pertinent to this proposal, including comments with the names and addresses of respondents, will be available for public review at the BLM Palm Springs-South Coast Field Office located at 690 W. Garnet Avenue, North Palm Springs, California 92258, during regular business hours of 7:45 a.m. to 4:30 p.m., Monday through Friday, except holidays, and may be published as part of the Draft EIS/EIR. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: For further information and/or to have your name added to our mailing list, contact Claude Kirby, Bureau of Land Management, Palm Springs-South Coast Field Office, 690 West Garnet Ave, P.O. Box 581260, North Palm Springs, California 92258-1260, (760) 251-4850.

SUPPLEMENTARY INFORMATION: Southern California Edison (SCE) is proposing to construct a new 230-mile long, 500-kilovolt (kV) electrical transmission line between SCE's Devers Substation located near Palm Springs, California, and the Harquahala Generating Station switchyard, located near the Palo Verde Nuclear Generating Station (PVNGS) west of Phoenix, Arizona. For the most part, this portion of the project would parallel SCE's existing Devers-Palo Verde No. 1 500kV transmission line. In addition, SCE is proposing to upgrade 48.2 miles of existing 230 kV transmission lines between the Devers Substation west to the San Bernardino and Vista Substations, located in the San Bernardino, California, vicinity. Together, the proposed 500 kV line and the 230 kV transmission facility upgrades are known as DPV2. Construction of DPV2 would add 1,200 megawatts (MW) of transmission import capacity from the southwestern United States to California, which would reduce energy costs throughout California and enhance the reliability of California's energy supply through increased transmission infrastructure. The BLM has identified a preliminary list of issues that will need to be addressed in this analysis, including the impacts of the proposed project on visual resources, agricultural lands, air quality, plant and animal species including special status species, cultural resources, and watersheds. Other issues identified by the BLM are impacts to the public in the form of noise, traffic, accidental release of hazardous materials, and impacts to urban, residential, and recreational areas. Members of the public are invited to identify additional issues and concerns to be addressed.

Gail Acheson,
Field Manager.

[FR Doc. E5-6975 Filed 12-6-05; 8:45 am]

BILLING CODE 4310-40-P